DEPARTMENT OF TRANSPORTATION

National Highway Traffic Safety Administration

49 CFR Part 571

[Docket No. NHTSA-2002-12391]

NHTSA Vehicle Safety Rulemaking Priorities: 2002-2005

AGENCY: National Highway Traffic Safety Administration (NHTSA), DOT.

ACTION: Request for comments; correction.

SUMMARY: This document corrects the docket number for a request for comments on NHTSA's vehicle safety rulemaking priorities published on Thursday, July 25, 2002 (67 FR 48599).

FOR FURTHER INFORMATION CONTACT: Lawrence L. Hershman, Office of Safety Performance Standards, NPS-33, National Highway Traffic Safety Administration, Room 5104, 400 Seventh Street, SW., Washington, DC 20590. Telephone: 202-366-4929. Email: lhershman@nhtsa.dot.gov.

SUPPLEMENTARY INFORMATION: The notice that is the subject of this correction was published to announce the availability for review and comment of a planning document that describes NHTSA's proposed vehicle safety rulemaking priorities through 2005. The plan includes those rulemaking actions of highest priority for the period 2002 to 2005, based primarily on the greatest potential protection of lives and prevention of injury that fall within the immediate four-year time frame. The plan was posted on NHTSA's website on July 25, 2002. Comments will be evaluated and incorporated, as appropriate, into planned agency activities. The agency intends to update the plan periodically. Comments that cannot be accommodated in the current plan will be reviewed and considered in the context of future updates.

As published, the notice contained an incorrect docket number. The correct docket number is NHTSA-2002-12391. Comments should be addressed to that docket number.

Correction of Publication

Accordingly, the publication on July 25, 2002 (67 FR 48599) is corrected as follows:

On page 48599, in the heading, the docket number is corrected to NHTSA-2002-12391.

On page 48600, in the second sentence in the second paragraph of the Address section, the docket number is corrected to NHTSA-2002-12391.

On page 48600, in the second sentence of the first paragraph of the How Do I Prepare and Submit Comments? section, the docket number is corrected to NHTSA-2002-12391.

On page 48601, in item number 3. in the How Can I Read the Comments Submitted By Other People? section, the docket number is corrected to NHTSA-2002-12391.

Authority: 49 U.S.C. 30111, 30117, 30168; delegation of authority at 49 CFR 1.50 and 501.8.

Issued on: July 25, 2002.
Roger A. Saul,
Acting Associate Administrator for Safety Performance Standards.

[FR Doc. 02-19368 Filed 7-26-02; 4:30 pm]

BILLING CODE 4910-59-P